SECURITIES AND EXCHANGE COMMISSION

[Release No. 34-93346; File No. SR-PEARL-2021-32]

Self-Regulatory Organizations; MIAX PEARL, LLC; Notice of Withdrawal of a Proposed Rule Change To Amend the MIAX Pearl Options Fee Schedule To Remove Certain Credits and Increase Trading Permit Fees

October 15, 2021.

On July 1, 2021, MIAX PEARL, LLC (“MIAX Pearl” or the “Exchange”) filed with the Securities and Exchange Commission (“Commission”), pursuant to Section 19(b)(1) of the Securities Exchange Act of 1934 (“Act”),¹ and Rule 19b-4 thereunder,² a proposed rule change to amend the MIAX Pearl Options Fee Schedule to remove certain credits and increase monthly Trading Permit fees for Exchange Members. The proposed rule change was immediately effective upon filing with the Commission pursuant to Section 19(b)(3)(A) of the Act.³ On July 15, 2021, the proposed rule change was published for comment in the Federal Register.⁴ On August 27, 2021, pursuant to Section 19(b)(3)(C) of the Act, the Commission: (1) Temporarily suspended the proposed rule change; and (2) instituted proceedings to determine whether to approve or disapprove the proposal.⁵ The Commission received one comment letter on the proposal.⁶ On October 12, 2021, the Exchange withdrew the proposed rule change (SR-PEARL-2021-32).

¹ 15 U.S.C. 78s(b)(1).

² 17 CFR 240.19b-4.

³ 15 U.S.C. 78s(b)(3)(A).

⁴ See Securities Exchange Act Release No. 92366 (July 9, 2021), 86 FR 37379.

⁵ See Securities Exchange Act Release No. 92797, 86 FR 49399 (September 2, 2021).

⁶ See Letter from Richard J. McDonald, Susquehanna International Group, LLP, to Vanessa Countryman, Secretary, Commission, dated September 28, 2021, available at: https://www.sec.gov/comments/sr-pearl-2021-32/srpearl202132-9295793-259789.pdf.

For the Commission, by the Division of Trading and Markets, pursuant to delegated authority.⁷
⁷ 17 CFR 200.30-3(a)(57) and (58).
J. Matthew DeLesDernier,
Assistant Secretary.

[FR Doc. 2021-22925 Filed 10-20-21; 8:45 am]

BILLING CODE 8011-01-P